NUCLEAR REGULATORY COMMISSION

[Docket No. 50-293-LR;] [ASLBP No. 06-848-02-LR]

Atomic Safety and Licensing Board; Before Administrative Judges: Ann Marshall Young, Chair, Dr. Paul B. Abramson, Dr. Richard F. Cole, In the Matter of: Entergy Nuclear Generation Company and Entergy Nuclear Operations, Inc. (Pilgrim Nuclear Power Station); Notice of Hearing and of Opportunity To Make Limited Appearance Statements

February 27, 2008.

This proceeding involves Entergy Nuclear Operations, Inc.'s Application to renew its operating license for the Pilgrim Nuclear Power Station for an additional 20-year period, and Intervenor Pilgrim Watch's challenge of certain aspects of the Application.¹ This Atomic Safety and Licensing Board hereby gives notice that the oral hearing in the proceeding will be held on Thursday, April 10, 2008. The hearing will commence at 9 a.m., at the Radisson Hotel, 180 Water Street in Plymouth, Massachusetts.

¹ The Town of Plymouth, Massachusetts, where the Pilgrim plant is located, is also participating in this proceeding as an interested local governmental body, pursuant to 10 CFR 2.315(c).

In addition, the Board further hereby gives notice that, in accordance with 10 CFR. 2.315(a), it will entertain oral limited appearance statements from members of the public in connection with this proceeding on the evening of April 9, 2008, as specified below.

Limited Appearance Statement Session

a. Date, Time, and Location of Oral Limited Appearance Statement Session

The session will be held on the following date at the specified location and time:

Date: April 9, 2008.

Time: 6:30-8:30 p.m. EDT.

Location: Radisson Hotel, 180 Water Street, Plymouth, Massachusetts 02360.

b. Participation Guidelines for Oral Limited Appearance Statements

Members of the public will be permitted in this session to make short oral statements of five (5) minutes or less on their positions on matters of concern relating to this proceeding. Although these statements do not constitute testimony or evidence in the proceeding, they nonetheless may assist the Board and/or the parties in their consideration of the issues.

Oral limited appearance statements will be entertained during the hours specified above, or such lesser time as necessary to accommodate all speakers who are present.² If all scheduled and unscheduled speakers present at the session have spoken prior to the scheduled time to end the session, the Board may conclude the session before that time. In addition, if there is an unusually large group of persons wishing to speak, the time permitted for each speaker may be limited to a period of less than five (5) minutes, in order to allow all interested persons an opportunity to speak.

² Members of the public who plan to attend the limited appearance session are advised that security measures may be employed at the entrance to the facility, including searches of hand-carried items such as briefcases, backpacks, packages, etc. In addition, although signs no larger than 18” by 18” will be permitted, they may not be waved, attached to sticks, held up, or moved about in the room. See Procedures for Providing Security Support for NRC Public Meetings/Hearings, 66 FR 31,719 (June 12, 2001).

c. Submitting a Request to Make an Oral Limited Appearance Statement

Persons wishing to make an oral statement who have submitted a timely written request as specified below and who are present when their names are called will be given priority over those who have not filed such a request. To be considered timely, a written request to make an oral statement must be mailed, faxed, or sent by e-mail so as to be received by 5 p.m. EDT on Friday, April 4, 2008.

Written requests to make an oral statement should be submitted to:

Mail: Office of the Secretary, Rulemakings and Adjudications Staff, U.S. Nuclear Regulatory Commission, Washington, DC 20555-0001.

Fax: (301) 415-1101 (verification (301) 415-1966).

E-mail: hearingdocket@nrc.gov.

In addition, using the same method of service, a copy of the written request to make an oral statement must be sent to the Chair of this Licensing Board as follows:

Mail: Administrative Judge Ann Marshall Young, c/o: Johanna Thibault, Esq., Law Clerk, Atomic Safety and Licensing Board Panel, Mail Stop T-3 A2A, U.S. Nuclear Regulatory Commission, Washington, DC 20555-0001.

Fax: (301) 415-5599 (verification (301) 415-6094).

E-mail: Johanna.Thibault@nrc.gov.

d. Submitted Written Limited Appearance Statements

A written limited appearance statement may be submitted to the Board regarding this proceeding at any time, either in lieu of or in addition to any oral statement. Such statements should be sent to the Office of the Secretary using the methods prescribed above, with a copy to the Licensing Board Chair.

Dated: February 27, 2008, at Rockville, Maryland.
For the Atomic Safety and Licensing Board.
Ann Marshall Young,
Chair, Administrative Judge.

[FR Doc. E8-4226 Filed 3-4-08; 8:45 am]

BILLING CODE 7590-01-P